DEPARTMENT OF ENERGY

Federal Energy Regulatory Commission

[Docket No. RP03-553-001]

Equitrans, L.P.; Notice of Compliance Filing

September 5, 2003.

Take notice that on August 29, 2003, Equitrans, L.P., (Equitrans) tendered for filing as part of its FERC Gas Tariff, Original Volume No. 1, the following revised tariff sheets to become effective on July 1, 2003:

First Revised Sheet No. 276-C.

Substitute Second Revised Sheet No. 309

Equitrans states that the purpose of this tariff filing is to comply with Commission Order No. 587-R, issued March 12, 2003, and the Commission's letter order issued August 22, 2003.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: September 10, 2003.

Magalie R. Salas,
Secretary.

[FR Doc. 03-23383 Filed 9-12-03; 8:45 am]

BILLING CODE 6717-01-P